DEPARTMENT OF ENERGY

Federal Energy Regulatory Commission

[Project No. 349-173]

Martin Dam Hydroelectric Project; Notice of Availability of the Final Environmental Impact Statement for the Martin Dam Hydroelectric Project

In accordance with the National Environmental Policy Act of 1969 and the Federal Energy Regulatory Commission's (Commission) regulations, 18 CFR part 380 (Order No. 486, 52 FR 47897), the Office of Energy Projects has reviewed the application for license for the Martin Dam Hydroelectric Project (FERC No. 349), located on the Tallapoosa River in Tallapoosa, Coosa, and Elmore Counties, Alabama, and has prepared a Final Environmental Impact Statement (final EIS) for the project. The project occupies 1.39 acres of federal lands administered by the U.S. Bureau of Land Management.

The final EIS contains staff evaluations of the applicant's proposal and the alternatives for relicensing the Martin Dam Hydroelectric Project. The final EIS documents the views of governmental agencies, non-governmental organizations, affected Indian tribes, the public, the license applicant, and Commission staff.

A copy of the final EIS is available for review in the Commission's Public Reference Branch, Room 2A, located at 888 First Street NE., Washington, DC 20426. The final EIS also may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

For further information, please contact Stephen Bowler at (202) 502-6861 or at stephen.bowler@ferc.gov.

Dated: April 2, 2015.
Kimberly D. Bose,
Secretary.

[FR Doc. 2015-08232 Filed 4-9-15; 8:45 am]

BILLING CODE 6717-01-P